DEPARTMENT OF STATE

[Public Notice: 10668]

Notice of Public Meeting

The Department of State will conduct an open meeting at 10:00 a.m. on February 21, 2019, in room 6K15-15 of the Douglas A. Munro Coast Guard Headquarters Building at St. Elizabeth's, 2703 Martin Luther King Jr. Avenue SE, Washington, DC 20593. The primary purpose of the meeting is to prepare for the sixth session of the International Maritime Organization's (IMO) Sub-Committee on Ship Systems and Equipment to be held at the IMO Headquarters, United Kingdom, March 4-8, 2019.

The agenda items to be considered include:

—Adoption of the Agenda

—Decisions of other IMO bodies

—Safety objectives and functional requirements of the Guidelines on alternative design and arrangements for SOLAS chapters II-1 and III

—Develop new requirements for ventilation of survival craft

—Consequential work related to the new Code for ships operating in polar waters

—Review SOLAS chapter II-2 and associated codes to minimize the incidence and consequences of fires on ro-ro spaces and special category spaces of new and existing ro-ro passenger ships

—Amendments to MSC.1/Circ.1315

—Amendments to chapter 9 of the FSS Code for fault isolation requirements for cargo ships and passenger ship cabin balconies fitted with individually identifiable fire detector systems

—Requirements for onboard lifting appliances and anchor handling winches

—Revised SOLAS regulations II-1/13 and II-1/13-1 and other related regulations for new ships

—Development of guidelines for cold ironing of ships and consideration of amendments to SOLAS chapters II-1 and II-2

—Unified interpretation of provisions of IMO safety, security and environment-related conventions

—Amendments to paragraph 4.4.7.6.17 of the LSA Code concerning single fall and hook systems with on-load release capability

—Revision of the Standardized Life-Saving Appliance Evaluation and Test Report Forms (MSC/Circ.980 and addenda)

—Biennial status report and provisional agenda for SSE 7

—Election of Chair and Vice-Chair for 2020

—Any other business

Members of the public may attend this meeting up to the seating capacity of the room. Upon request to the meeting coordinator, members of the public may also participate via teleconference, up to the capacity of the teleconference phone line. To access the teleconference line, participants should call (202) 475-4000 and use Participant Code: 796 771 84. To facilitate the building security process, and to request reasonable accommodation, those who plan to attend should contact the meeting coordinator, LT Alexandra Miller, by email at Alexandra.S.Miller@uscg.mil, by phone at (202) 372-1356, or in writing at 2703 Martin Luther King Jr. Ave. SE, Stop 7509, Washington, DC 20593-7509 not later than February 14, 2019, 7 days prior to the meeting. Requests made after February 14, 2019 might not be able to be accommodated. Please note that due to security considerations, two valid, government issued photo identifications must be presented to gain entrance to the Coast Guard Headquarters building. It is recommended that attendees arrive no later than 30 minutes ahead of the scheduled meeting for the security screening process. The Headquarters building is accessible by taxi, public transportation, and privately owned conveyance (upon request). In the case of inclement weather where the U.S. Government is closed or delayed, a public meeting may be conducted virtually by calling (202) 475-4000 or 1-855-475-2447, Participant code: 796 771 84. The meeting coordinator will confirm whether the virtual public meeting will be utilized. Members of the public can find out whether the U.S. Government is delayed or closed by visiting www.opm.gov/status/.

Joel C. Coito,
Coast Guard Liaison Officer, Office of Ocean and Polar Affairs, Department of State.

[FR Doc. 2019-01292 Filed 2-5-19; 8:45 am]

BILLING CODE 4710-09-P